DEPARTMENT OF LABOR

Employment and Training Administration

[TA-W-54,972]

CBCA Administrator, a Division of CBCA, Inc., Fort Worth, TX; Dismissal of Application for Reconsideration

Pursuant to 29 CFR 90.18(C) an application for administrative reconsideration was filed with the Director of the Division of Trade Adjustment Assistance for workers at CBCA Administrators, a division of CBCA, Inc., Fort Worth, Texas. The application contained no new substantial information which would bear importantly on the Department's determination. Therefore, dismissal of the application was issued.

TA-W-54,972; CBCA Administrator, a division of CBCA, Inc., Fort Worth, Texas (July 16, 2004).

Signed at Washington, DC, this 16th day of July 2004.
Timothy Sullivan,
Director, Division of Trade Adjustment Assistance.

[FR Doc. 04-16766 Filed 7-22-04; 8:45 am]

BILLING CODE 4510-30-P